DEPARTMENT OF AGRICULTURE

Forest Service

Uinta-Wasatch-Cache National Forest; Evanston-Mountain View Ranger District; Utah; Smiths Fork Vegetation Restoration Project

AGENCY: Forest Service, USDA.

ACTION: Correction to notice of intent to prepare an environmental impact statement.

SUMMARY: The Uinta-Wasatch-Cache National Forest is submitting a correction to the notice of intent for the Smiths Fork Vegetation Restoration Project published on May 7, 2012 [77 FR 26733]. The notice of intent initially read: “Only persons who submit specific written comments on the proposed action during the 30-day comment period will be eligible to file an objection. This comment period represents the only opportunity for the public to comment on this proposal prior to the objection process. The opportunity to comment will end 30 days after a legal notice announcing the request for scoping comments is published in the Salt Lake Tribune, which is the newspaper of record.”

The correction to the notice of intent is as follows: “Only individuals and organizations who have submitted specific written comments related to the proposed action during the opportunities for public comment provided during the scoping period or the comment period on the draft EIS will be eligible to file an objection under the Healthy Forests Restoration Act. The opportunity to provide scoping comments will end 30 days after a legal notice announcing the request for scoping comments is published in the Salt Lake Tribune, which is the newspaper of record. Comments on the draft EIS itself will be solicited when the draft EIS is available. Availability of the draft EIS will be made via a notice of availability in the Federal Register as well as a legal notice in the Salt Lake Tribune.”

DATES: The scoping period for the Smiths Fork Vegetation Restoration Project has been extended. Comments concerning the analysis for the proposed action as described in the notice of intent [77 FR 26733] must be received or postmarked before the end of the 30-day scoping period that begins with the publication of the revised legal notice of scoping in the Salt Lake Tribune. Comments that have already been provided in response to the notice of intent do not need to be submitted again. All comments will be considered part of the project record and will be subject to the Freedom of Information Act.

ADDRESSES: Mail written comments to: Smiths Fork Vegetation Restoration Project, Attention: Rick Schuler, P.O. Box 1880, Evanston, WY 82931. In addition, comments may also be delivered by hand Monday through Friday between the hours of 8 a.m. and 4:30 p.m. at the following physical address: 1565 Highway 150, Suite A, Evanston, Wyoming. Comments may also be submitted electronically to: comments-intermtn-wasatch-cache-evanston-mtnview@fs.fed.us or submitted via facsimile to 307-783-8639. Electronic comments should be submitted in a .pdf, .rtf, .docx, or other common format.

FOR FURTHER INFORMATION CONTACT: Pete Gomben, Environmental Coordinator for the Evanston-Mountain View Ranger District, at 801-236-3407. Individuals who use telecommunication devices for the deaf (TDD) may call the Federal Information Relay Service (FIRS) at 1-800-877-8339 between 8 a.m. and 8 p.m., Eastern Time, Monday through Friday.

Dated: June 5, 2012.
David C. Whittekiend,
Forest Supervisor.

[FR Doc. 2012-14057 Filed 6-8-12; 8:45 am]

BILLING CODE 3410-11-P